FEDERAL COMMUNICATIONS COMMISSION

Sunshine Act Meeting; Open Commission Meeting; Thursday, January 30, 2014

The Federal Communications Commission will hold an Open Meeting on the subjects listed below on Thursday, January 30, 2014. The meeting is scheduled to commence at 10:30 a.m. in Room TW-C305, at 445 12th Street SW., Washington, DC Due to the adverse weather conditions and closing of the Commission on Tuesday, January 21, 2014, the Commission is waiving the sunshine period prohibition contained in Section 1.1203 of the Commission's rules, 47 CFR 1.1203, until 11:59 p.m. on Friday, January 24, 2014. Thus, presentations with respect to the items listed below will be permitted until that time.

Item No. | Bureau | Subject
1 | OFFICE OF GENERAL COUNSEL | TITLE: Technology Transitions (GN Docket No. 13-5); AT&T Petition to Launch a Proceeding Concerning the TDM-to-IP Transition (GN Docket No. 12-353); Connect America Fund (WC Docket No. 10-90); Structure and Practices of the Video Relay Service Program (CG Docket No. 10-51); Telecommunications Relay Services And Speech-to-Speech Services for Individuals with Hearing and Speech Disabilities (CG Docket No. 03-123); Numbering Policies for Modern Communications (WC Docket No. 13-97) SUMMARY: The Commission will consider a Report and Order, Notice of Proposed Rulemaking, and Notice of Inquiry that invites diverse technology transitions experiments to examine how to best accelerate technology transitions by preserving and enhancing the values consumers have come to expect from communication networks.
2 | PUBLIC SAFETY & HOMELAND SECURITY | TITLE: Facilitating the Deployment of Text-to-911 and Other Next Generation 911 Applications (PS Docket No. 11-153); Framework for Next Generation 911 Deployment (PS Docket No. 10-255)
|  | SUMMARY: The Commission will consider a Policy Statement and Further Notice of Proposed Rulemaking that sets forth the agency's policy goals regarding this critical public safety function, and seeks comment on proposals for widespread implementation and achievement of those goals.
3 | INCENTIVE AUCTION TASK FORCE | PRESENTATION: The Commission will receive an update on the timeline and project plan for the broadcast television incentive auction.
4 | WORKING GROUP ON PROCESS REFORM | PRESENTATION: The Commission will receive a presentation from the Staff Working Group on Process Reform at the FCC.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov mail to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live http://www.fcc.gov/live.

For a fee this meeting can be viewed live over George Mason University's Capitol Connection. The Capitol Connection also will carry the meeting live via the Internet. To purchase these services call (703) 993-3100 or go to www.capitolconnection.gmu.edu http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com mailto:FCC@BCPIWEB.com.

Dated: January 23, 2014.
Federal Communications Commission.
Marlene H. Dortch,
Secretary, Office of the Secretary, Office of Managing Director.

[FR Doc. 2014-01984 Filed 1-28-14; 11:15 am]

BILLING CODE 6712-01-P